DEPARTMENT OF EDUCATION

Personnel Development To Improve Services and Results for Children With Disabilities—Interdisciplinary Preparation of Early Intervention, Special Education, and Related Services Personnel Serving Children With Disabilities Who Have High-Intensity Needs; Correction

AGENCY: Department of Education.

ACTION: Notice; correction.

SUMMARY: The Department of Education published a document in the Federal Register of May 27, 2025, concerning applications for new awards for fiscal year (FY) 2025 for Personnel Development to Improve Services and Results for Children with Disabilities—Interdisciplinary Preparation of Early Intervention, Special Education, and Related Services Personnel Serving Children with Disabilities who have High-Intensity Needs. The document contained incorrect information in footnote 5.

FOR FURTHER INFORMATION CONTACT: Sunyoung Ahn, U.S. Department of Education, 400 Maryland Ave. SW, Washington, DC 20202. Telephone: 202-987-0141. Email: Sunyoung.Ahn@ed.gov.

SUPPLEMENTARY INFORMATION:

Correction

In the Federal Register of May 27, 2025, in FR Doc. 2025-09431, on page 22254, in the second column, correct footnote 5 to read:

⁵ For the purposes of this priority, “scholar” means an individual who: (a) is pursuing a master's, educational specialist, or clinical doctoral degree in early intervention, special education, or related services; (b) receives scholarship assistance as authorized under section 662 of IDEA (34 CFR 304.3(g)); (c) will be eligible for a license, endorsement, or certification from a State or national credentialing authority following completion of the degree program identified in the application; and (d) will be able to be employed in a position that serves children with disabilities for a minimum of 51 percent of their time or case load. Individuals pursuing degrees in general education or early childhood education do not qualify as “scholars” eligible for scholarship assistance.

Dated: May 27, 2025.
Sharon Cooke,
Associate Director, Office of Executive Secretariat.

[FR Doc. 2025-09859 Filed 5-30-25; 8:45 am]

BILLING CODE 4000-01-P